DEPARTMENT OF DEFENSE

Department of the Navy

Notice of Additional Public Hearing and Extension of Comment Period for the Draft Environmental Impact Statement/Overseas Environmental Impact Statement for the Northwest Training Range Complex

AGENCY: Department of the Navy, DoD.

ACTION: Notice.

SUMMARY: A notice of availability (NOA) was published by the U.S. Environmental Protection Agency in the Federal Register (73 FR 79473) on December 29, 2008, for the Northwest Training Range Complex (NWTRC) Draft Environmental Impact Statement/Overseas Environmental Impact Statement (EIS/OEIS). A notice of public hearing dates and locations was published in the Federal Register (73 FR 79856) on December 30, 2008. This notice announces an additional public hearing in Oregon and extension of the public comment period until March 11, 2009. The comment period was previously extended from February 11, 2009 to February 18, 2009 [notice published February 11, 2009 (74 FR 6859); amended NOA published February 13, 2009 (74 FR 7230)].

Dates and Addresses: A public hearing has been scheduled for February 26, 2009, at the Tillamook County Fairgrounds Auditorium, 4603 East 3rd Street, Tillamook, Oregon, to receive oral and written comments on the Draft EIS/OEIS. The meeting will start with an open house session from 5 p.m. to 7 p.m., followed by a presentation and formal public comment period from 7 p.m. to 8:30 p.m. The open house session will allow interested individuals to review information presented in the Draft EIS/OEIS. Navy representatives will be available during the open house session to clarify information related to the Draft EIS/OEIS.

FOR FURTHER INFORMATION CONTACT: Mrs. Kimberly Kler, Naval Facilities Engineering Command Northwest, Attention: NWTRC EIS/OEIS, 1101 Tautog Circle, Suite 203, Silverdale, Washington, 98315-1101; or http://www.NWTRangeComplexEIS.com.

SUPPLEMENTARY INFORMATION: Federal, State, and local agencies, and interested parties are invited to be present or represented at the public hearing. Written comments can also be submitted during the open house session preceding the public hearing.

Oral statements will be heard and transcribed by a stenographer; however, to ensure the accuracy of the record, all statements should be submitted in writing. All statements, both oral and written, will become part of the public record on the Draft EIS/OEIS and will be responded to in the Final EIS/OEIS. Equal weight will be given to both oral and written statements. In the interest of available time, and to ensure all who wish to give an oral statement have the opportunity to do so, each speaker's comments will be limited to four (4) minutes. If a long statement is to be presented, it should be summarized at the public hearing with the full text submitted either in writing at the hearing, or mailed to Naval Facilities Engineering Command Northwest, Attention: Mrs. Kimberly Kler—NWTRC EIS/OEIS, 1101 Tautog Circle, Suite 203, Silverdale, WA, 98315-1101. In addition, comments may be submitted online at http://www.NWTRangeComplexEIS.com during the comment period. All written comments must be postmarked by March 11, 2009, to ensure they become part of the official record. All comments will be addressed in the Final EIS/OEIS.

Copies of the Draft EIS/OEIS are available for public review at the following libraries:

1. Newport Public Library, 35 NW Ney Street, Newport, OR;

2. Tillamook County Library, 1716 3rd Street, Tillamook, OR;

3. Suislaw Public Library, 1460 9th Street, Florence, OR;

4. Driftwood Public Library, 801 SW Highway 101, Lincoln City, OR;

5. Humboldt County Library, 1313 Third Street, Eureka, CA;

6. Jefferson County Rural Library, 620 Cedar Avenue, Port Hadlock, WA;

7. Kitsap Regional Library, 1301 Sylvan Way, Bremerton, WA;

8. Oak Harbor Public Library, 1000 SE Regatta Drive, Oak Harbor, WA;

9. Port Townsend Public Library, 1220 Lawrence St., Port Townsend, WA;

10. Timberland Regional Library, 420 Seventh Street, Hoquiam, WA.

The NWTRC Draft EIS/OEIS is also available for electronic public viewing at: http://www.NWTRangeComplexEIS.com.

Dated: February 20, 2009.
A. M. Vallandingham,
Lieutenant Commander, Judge Advocate General's Corps, U.S. Navy, Federal Register Liaison Officer.

[FR Doc. E9-4042 Filed 2-24-09; 8:45 am]

BILLING CODE 3810-FF-P